DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before July 25, 2003.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION: Copies of the applications (see Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on June 20, 2003.
R. Ryan Posten,
Exemptions Program Officer, Office of Hazardous Materials, Exemptions and Approvals.

New Exemptions
Application No. | Docket No. | Applicant | Regulation(s) affected | Nature of exemption thereof
13234-N |  | Quest Diagnostics, Inc. Collegeville, PA | 49 CFR 178.503(f) | To authorize the transportation in commerce of a specially designed packaging made of semi-rigid polyester fabric with polyvinyl chloride backing for use in transporting Division 6.2 hazardous materials. (modes 1, 4)
13244-N |  | Kihei Industries Houston, TX | 49 CFR 173.302, 173.306(b)(4), 175.3 | To authorize the manufacture, mark, sale and use of non-DOT specification containers described as hermetically-sealed electron tubes for use in transporting Division 2.2 hazardous materials. (modes 1, 2, 3, 4, 5)
13245-N |  | Piper Impact New Albany, MS | 49 CFR 173.302(a)(1), 175.3 | To authorize the manufacture, mark, sale and use of non-DOT specification cylinders similar to DOT Specification 39 cylinders for use in transporting Division 2.2 hazardous materials. (modes 1, 2, 3, 4, 5)
13246-N |  | McLane Company, Inc. Temple, TX | 49 CFR 172.102 N10, 173.22, 173.308(b), 178.3, 178.503, 178.517, 178.601 | To authorize the transportation in commerce of cigarette lighters, for which approval has been obtained by the lighter manufactures under 49 CFR 173.21(i), in reusable plastic totes. (mode 1)
13249-N |  | Creative Engineers, Inc. Gisonia, PA | 49 CFR 173.211, 173.34(e) | To authorize the transportation in commerce of certain Division 4.3 hazardous materials in DOT-4BW240 cylinders. (modes 1, 2, 3, 4)
13251-N |  | Department of Defense Fort Eustis, VA | 49 CFR 172.301(c), 173.302(a) | To authorize the one-time roundtrip transportation in commerce of six non-DOT specification cylinders containing a Division 2.2 compressed gas. (modes 1, 3)
13252-N |  | Department of Defense Fort Eustis, VA | 49 CFR 172, subparts D&E, 172.400(a)(5), 173.25(a)(2) | To authorize the one-time transportation in commerce of specially designed non-bulk containers containing mercury, Class 8 overpacked in wooden box pallets. (mode 1)
13253-N |  | H. Koch & Sons Anaheim, CA | 49 CFR 173.62 | To authorize the transportation in commerce of a specially designed device for use in transporting Division 1.4S hazardous materials. (mode 5)
13257-N |  | Pharmacia Corp. Kalamazoo, MI | 49 CFR 172.301(a), (b) & (c), 173.196, subpart C of part 172 | To authorize the transportation in commerce of certain infectious substances in specially designed packaging. (mode 1)
13259-N |  | Pressure Vessel Technologies, Inc. Warren, WI | 49 CFR 173.302, 173.304a(a) | To authorize the manufacture, marking, sale and use of non-DOT specification cylinders conforming with all regulations applicable to a DOT Specification 3E cylinder for use in transporting non-liquefied gases classed in Division 2.1, 2.2 and 2.3. (modes 1, 2)

[FR Doc. 03-16090 Filed 6-24-03; 8:45 am]

BILLING CODE 4910-60-M